DEPARTMENT OF THE INTERIOR

Bureau of Indian Affairs

Notice of Availability of the Final Environmental Impact Statement for the Confederated Tribes of the Warm Springs Reservation of Oregon Proposed Trust Acquisition and Resort and Casino Project, Cascade Locks, Hood River County, OR

AGENCY: Bureau of Indian Affairs, Interior.

ACTION: Notice of Availability.

SUMMARY: The Bureau of Indian Affairs (BIA) announces the availability of the Final Environmental Impact Statement (EIS) for the proposed 25-acre trust acquisition for the Confederated Tribes of the Warm Springs Reservation of Oregon (Tribe) within the City of Cascade Locks, Hood River County, Oregon. The acquired trust land would be used for the development of a casino and related hotel, dining, and entertainment facilities. The purpose of the proposed action is to improve the Tribe's long-term economic conditions and support its self-sufficiency, both with respect to its government operations and its members. The Final EIS considers casino alternatives in Hood River County and on the Warm Springs Indian Reservation. The Final EIS identifies the Cascade Locks Resort and Casino Project as the BIA's preferred alternative.

DATES: The Record of Decision on the proposed action will be issued on or after September 20, 2010. Any comments on the Final EIS must arrive by September 7, 2010.

ADDRESSES: The Final EIS will be available at http://www.gorgecasinoEIS.com and at the locations listed in the SUPPLEMENTARY INFORMATION section of this Notice. You may mail or hand-carry written comments to Mr. Scott Aikin, Division of Natural Resources Chief, Bureau of Indian Affairs, 911 Northeast 11th Avenue, Portland, Oregon 97232. You may also fax your comments to (503) 231-6791. See the SUPPLEMENTARY INFORMATION section of this notice for directions on submitting comments.

FOR FURTHER INFORMATION CONTACT: Mr. Scott Aikin, Bureau of Indian Affairs, (503) 231-6883.

SUPPLEMENTARY INFORMATION: The Tribe has requested that the BIA take 25 acres of land in the City of Cascade Locks into trust on behalf of the Tribe. The Tribe would develop a resort and casino on the newly acquired trust land and lease adjacent lands (approximately 35 acres) from the Port of Cascade Locks for parking and other facilities related to the resort and casino development. The resort and casino project also would include a new interchange on Interstate 84 (I-84) and local transportation system improvements in coordination with the Federal Highway Administration (FHWA) and the Oregon Department of Transportation (ODOT). The FHWA and ODOT are cooperating agencies in the development of the EIS. Other cooperating agencies include the City of Cascade Locks, the Port of Cascade Locks, and Hood River County, all in the State of Oregon.

Project alternatives considered in the Final EIS include: (1) Cascade Locks Resort and Casino Project; (2) Hood River Alternative; (3) Warm Springs Alternative; and (4) no action. The Cascade Locks Resort and Casino Project is the BIA's Preferred Alternative based on the findings of the EIS, however, the BIA must conduct a complete evaluation of the criteria listed in 25 CFR part 151 prior to making a final decision. The BIA may, in its Record of Decision, select an alternative other than the Preferred Alternative, including no action or another alternative analyzed in the Final EIS. Environmental issues addressed in the Final EIS include geology and soils, land use, water resources, air quality, noise, plants and wildlife, endangered species, cultural resources, socioeconomic conditions (including environmental justice), transportation, public services, the visual environment, and hazardous wastes and materials. The Final EIS examines the direct, indirect, and cumulative effects of each alternative on these resources. Mitigation measures to address adverse impacts are identified in the Final EIS.

The BIA has afforded other government agencies and the public extensive opportunity to participate in the preparation of this EIS. The BIA published a notice of intent to prepare the EIS for the proposed action in the Federal Register on August 30, 2005 (70 FR 51363). A Notice of Availability for the Draft EIS was published in the Federal Register on February 15, 2008 (73 FR 8897). The Draft EIS was available for public comment from February 15, 2008, to May 15, 2008. The total public comment period was 90 days. The BIA held five public hearings on the Draft EIS, one on March 3, 2008, in Warm Springs, Oregon; one on March 10, 2008, in Cascade Locks, Oregon; one on March 12, 2008, in Stevenson, Washington; one on March 13, 2008, in Portland, Oregon; and one on March 17, 2008, in Hood River, Oregon.

Availability of the Final EIS: Copies of the Final EIS have been distributed to Federal, State, regional, and local agencies, Native American Tribes and organizations, elected officials, and agencies, organizations, and individuals who may be interested or affected. To obtain a copy of the Final EIS, see ADDRESSES above. Copies of the Final EIS are also available for review at the following locations:

• Bureau of Indian Affairs, Northwest Regional Office, 911 NE. 11th Avenue, Portland, Oregon 97232;

• Port of Cascade Locks, 710 Lucy Lane, Cascade Locks, Oregon 97014;

• Federal Highway Administration, 530 Center Street, Room 100, Salem, Oregon 97301;

• Cascade Locks Library, 140 SE Wa-Na-Pa Street, Cascade Locks, Oregon 97031;

• Multnomah County Library, Central Branch, 801 SW. 10th Street, Portland, Oregon 97205;

• Gresham Library 385 NW. Miller Avenue, Gresham, Oregon 97030;

• Vancouver Community Library, 1007 E. Mill Plain Boulevard, Vancouver, Washington 98663;

• Hood River County, 601 State Street, Hood River, Oregon 97031;

• Oregon Department of Transportation, Region 1, 123 NW. Flanders, Portland, Oregon 97209;

• Hood River County Library, 502 State Street, Hood River, Oregon 97014;

• Mosier City Library, 3rd Street, Mosier, OR 97040;

• Stevenson Community Library, 120 NW. Vancouver Avenue, Stevenson, Washington 98648;

• Fairview-Columbia Library, 1520 NE. Village Street, Fairview, Oregon 97024;

• White Salmon Valley Community Library, #5 Town and Country Square, White Salmon, Washington 98672.

Directions for Submitting Comments: Please include your name, return address, and the caption, “Final EIS Comments, Confederated Tribes of the Warm Springs Reservation of Oregon Trust Acquisition and Resort/Casino Project,” on the first page of your written comments.

Public Comment Availability: Comments, including names and addresses of respondents, will be available for public review at the mailing address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with sections 1503.1 and 1506.6 of the Council of Environmental Quality Regulations (40 CFR Parts 1500 through 1508) implementing the procedural requirements of the National Environmental Policy Act of 1969, as amended (42 U.S.C. 4371 et seq.), Department of the Interior Manual (516 DM 4), and is in the exercise of authority delegated to the Assistant Secretary—Indian Affairs by 209 DM 8.l.

Dated: July 20, 2010.
Donald Laverdure,
Deputy Assistant Secretary—Indian Affairs.

[FR Doc. 2010-19195 Filed 8-5-10; 8:45 am]

BILLING CODE 4310-W7-P